INTERNATIONAL TRADE COMMISSION

[Investigation No. 731-TA-1474 (Final)]

Ultra-High Molecular Weight Polyethylene From Korea

Determination

On the basis of the record ¹ developed in the subject investigation, the United States International Trade Commission (“Commission”) determines, pursuant to the Tariff Act of 1930 (“the Act”), that an industry in the United States is not materially injured or threatened with material injury, and the establishment of an industry in the United States is not materially retarded by reason of imports of ultra-high molecular weight polyethylene from Korea, provided for in subheadings 3901.10.10 and 3901.20.10 of the Harmonized Tariff Schedule of the United States, that have been found by the U.S. Department of Commerce (“Commerce”) to be sold in the United States at less than fair value (“LTFV”).²

¹ The record is defined in § 207.2(f) of the Commission's Rules of Practice and Procedure (19 CFR 207.2(f)).

² 86 FR 11497 (February 25, 2021).

Background

The Commission instituted this investigation effective March 4, 2020, following receipt of a petition filed with the Commission and Commerce by Celanese Corporation, Irving, Texas. The Commission scheduled the final phase of the investigation following notification of a preliminary determination by Commerce that imports of ultra-high molecular weight polyethylene from Korea were being sold at LTFV within the meaning of section 733(b) of the Act (19 U.S.C. 1673b(b)). Notice of the scheduling of the final phase of the Commission's investigation and of a public hearing to be held in connection therewith was given by posting copies of the notice in the Office of the Secretary, U.S. International Trade Commission, Washington, DC, and by publishing the notice in the Federal Register of October 20, 2020 (85 FR 66576). In light of the restrictions on access to the Commission building due to the COVID-19 pandemic, the Commission conducted its hearing through written testimony and video conference on February 18, 2021. All persons who requested the opportunity were permitted to participate.

The Commission made this determination pursuant to section 735(b) of the Act (19 U.S.C. 1673d(b)). It completed and filed its determination in this investigation on April 12, 2021. The views of the Commission are contained in USITC Publication 5178 (April 2021), entitled Ultra-High Molecular Weight Polyethylene from Korea: Investigation No. 731-TA-1474 (Final).

By order of the Commission.
Issued: April 12, 2021.
Lisa Barton,
Secretary to the Commission.

[FR Doc. 2021-07758 Filed 4-15-21; 8:45 am]

BILLING CODE 7020-02-P